DEPARTMENT OF THE TREASURY

Submission for OMB Review; Comment Request

March 7, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 11, 2005 to be assured of consideration.

Internal Revenue Service (IRS)

OMB Number: 1545-1626.

Form Number: IRS Form 1065-b AND Schedule K-1.

Type of Review: Extension.

Title: Form 1065: U. S. Return of Income for Electing Large Partnerships; and Schedule K-1: Partner's Share of Income (Loss) From an Electing Large Partnership.

Description: Code sections 771-777 allow large partnerships to elect to file a simplified return which requires fewer items to be reported to partners.

Respondents: Business or other for-profit.

Estimated Number of Respondents/Recordkeepers: 100.

Estimated Burden Hours Per Respondent/Recordkeeper:

Form | Recordkeeping | Learning about the law or the form | Preparing the form | Copying, assembling, and sending the form to the IRS
Form 1065-B | 52 hr., 24 min | 23 hr., 51 min | 35 hr., 2 min | 2 hr., 40 min.
Schedule D (Form 1065-B) | 14 hr., 6 min | 2 hr., 40 min | 3 hr., 1 min |
Schedule K-1 (Form 1065) | 9 hr., 34 min | 7 hr., 43 min | 11 hr., 57 min | 1 hr., 4 min.
Schedule L (Form 1065) | 15 hr., 46 min | 12 min | 27 min
Schedule M-1 (Form 1065) | 3 hr., 21 min | 12 min | 15 min
Schedule M-2 (Form 1065-B) | 3 hr., 6 min | 6 min | 9 min

Frequency of Response: Annually.

Estimated Total Reporting/Recordkeeping Burden: 487,225 hours.

OMB Number: 1545-1915.

Notice Number: Notice 2005-04.

Type of Review: Extension.

Title: Fuel Tax Guidance.

Description: This notice provides guidance on certain excise tax Code provisions that were added or effected by the American Jobs Creation Act of 2004, Pub. L. 108-357. The information will be used by the IRS to verify that the proper amount of tax is reported, excluded, refunded, or credited.

Respondents: Business or other for-profit, Not-for-profit institutions, Farms, Federal Government, State, Local or Tribal Government.

Estimated Number of Respondents/Recordkeepers: 20,263.

Estimated Burden Hours Respondent/Recordkeeper: 1 hour, 41 minutes.

Estimated Total Reporting/Recordkeeping Burden: 34,390 hours.

Clearance Officer: Glenn P. Kirkland, Internal Revenue Service, Room 6516, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 05-4823 Filed 3-10-05; 8:45 am]

BILLING CODE 4830-01-P